DEPARTMENT OF TRANSPORTATION

Federal Aviation Administration

14 CFR Part 39

[Docket No. FAA-2015-2134; Directorate Identifier 2015-CE-012-AD; Amendment 39-18547; AD 2016-11-20]

RIN 2120-AA64

Airworthiness Directives; B/E Aerospace Protective Breathing Equipment Part Number 119003-11

AGENCY: Federal Aviation Administration (FAA), DOT.

ACTION: Final rule.

SUMMARY: We are adopting a new airworthiness directive (AD) for certain B/E Aerospace protective breathing equipment (PBE) that is installed on airplanes. This AD was prompted by a report of a PBE catching fire upon activation by a crewmember. This AD requires replacing the PBE. We are issuing this AD to correct the unsafe condition on these products.

DATES: This AD is effective July 15, 2016.

The Director of the Federal Register approved the incorporation by reference of certain publications listed in this AD as of July 15, 2016.

ADDRESSES: For service information identified in this final rule, contact B/E Aerospace, Inc., Commercial Aircraft Products Group, 10800 Pflumm Road, Lenexa, Kansas 66215; phone: (913) 338-9800; fax: (913) 338-8419; Internet: www.beaerospace.com. You may view this referenced service information at the FAA, Small Airplane Directorate, 901 Locust, Kansas City, Missouri 64106. For information on the availability of this material at the FAA, call (816) 329-4148. It is also available on the Internet at http://www.regulations.gov by searching for and locating Docket No. FAA-2015-2134.

Examining the AD Docket

You may examine the AD docket on the Internet at http://www.regulations.gov by searching for and locating Docket No. FAA-2015-2134; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: David Enns, Aerospace Engineer, Wichita Aircraft Certification Office, FAA, 1801 S. Airport Road, Room 100, Wichita, Kansas 67209; phone: (316) 946-4147; fax: (316) 946-4107; email: david.enns@faa.gov.

SUPPLEMENTARY INFORMATION:

Discussion

We issued a supplemental notice of proposed rulemaking (SNPRM) to amend 14 CFR part 39 by adding an AD that would apply to certain B/E Aerospace protective breathing equipment (PBE) that is installed on airplanes. The SNPRM published in the Federal Register on January 15, 2016 (81 FR 2131). We preceded the SNPRM with a notice of proposed rulemaking (NPRM) that published in the Federal Register on June 16, 2015 (80 FR 34330). The NPRM proposed to require inspecting the PBE to determine if the pouch has the proper vacuum seal and replacing if necessary. The NPRM was prompted by a report of a PBE catching fire upon activation by a crewmember. The SNPRM proposed to require replacement of the PBE following newly issued service information, regardless of inspection results. We are issuing this AD to correct the unsafe condition on these products.

Comments

We gave the public the opportunity to participate in developing this AD. We have considered the comments received. We received one anonymous comment in support of the SNPRM (81 FR 2131, January 15, 2016).

Request To Change Compliance Time

Penney Baudin of United Airlines requested a change to the PBE replacement compliance time.

The commenter requested a 12-month repetitive inspection with a 36-month terminating replacement action. The commenter stated that the change would alleviate restrictive shipping means and complex distribution of the PBEs since the units contain oxygen generators.

We do not agree with the commenter. We believe that the replacement compliance time of 18 months after the effective date of this AD is sufficient time since we are allowing even more time than specified in the related service information. Also, the public has been aware of this safety issue since we first published the first NPRM on June 16, 2015 (80 FR 34330). We have not changed the final rule AD action based on this comment.

Request To Correct Service Information

John Barker of B/E Aerospace stated that Service Bulletin 119003-35-009, dated November 9, 2015, is incorrectly referenced as Rev. 009 instead of Rev. 000 in the preamble of the SNPRM (81 FR 2131, January 15, 2016). The commenter requested the reference to the revision number be corrected.

We agree with the commenter. However, on April 12, 2016, Rev. 001 of B/E Aerospace Service Bulletin 119003-35-009 was released. We are incorporating the Revision 001, dated April 12, 2016, into the final rule AD action because the procedures for doing the inspection and replacement of the PBE have not changed.

We have changed the final rule AD action to include the newly revised service bulletin and to give credit to owners/operators who may have already done the required replacement following B/E Aerospace Service Bulletin No. 119003-35-009, Rev. 000, dated November 9, 2015, which was correctly referenced in paragraph (h) of the regulatory text in the SNPRM (81 FR 2131, January 15, 2016).

Conclusion

We reviewed the relevant data, considered the comments received, and determined that air safety and the public interest require adopting this AD as proposed except for minor editorial changes. We have determined that these minor changes:

• Are consistent with the intent that was proposed in the SNPRM (81 FR 2131, January 15, 2016) for correcting the unsafe condition; and

• Do not add any additional burden upon the public than was already proposed in the SNPRM (81 FR 2131, January 15, 2016).

Related Service Information Under 1 CFR Part 51

We reviewed B/E Aerospace Service Bulletin No. 119003-35-011, Rev. 000, dated February 4, 2015, and B/E Aerospace Service Bulletin 119003-35-009, Rev. 001, dated April 12, 2016. B/E Aerospace Service Bulletin No. 119003-35-011, Rev. 000, dated February 4, 2015, describes procedures for inspecting PBE, part number (P/N) 119003-11, to determine if the vacuum seal of the pouch containing the PBE is compromised. B/E Aerospace Service Bulletin 119003-35-009, Rev. 001, dated April 12, 2016, describes procedures for replacing PBE P/N 119003-11 with P/N 119003-21. This service information is reasonably available because the interested parties have access to it through their normal course of business or by the means identified in the ADDRESSES section.

Differences Between This AD and the Service Information

B/E Aerospace Service Bulletin No. 119003-35-011, Rev. 000, dated February 4, 2015, applies to all PBE with P/N 119003-11 and P/N 119003-21. We have determined that this AD will apply only to a PBE P/N 119003-11 with regard to the inspection requirement of paragraph (g) of this AD. B/E Aerospace Service Bulletin 119003-35-009, Rev. 001, dated April 12, 2016, includes instructions for disposal. In this AD, we are requiring only the replacement action.

Costs of Compliance

We estimate that this AD affects 9,000 products installed on airplanes of U.S. registry.

We estimate the following costs to comply with this AD:

Estimated Costs
Action | Labor cost | Parts cost | Cost per product | Cost on U.S. operators
Inspecting the pouch containing the PBE for proper vacuum seal | .5 work-hour × $85 per hour = $42.50 | Not applicable | $42.50 | $382,500
Replace the PBE P/N 119003-11 with a PBE P/N 119003-21 | .5 work-hour × $85 per hour = $42.50 | 1,510 | 1,552.50 | 13,972,500

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-11-20 B/E Aerospace: Amendment 39-18547; FAA-2015-2134; Directorate Identifier 2015-CE-012-AD.

(a) Effective Date

This AD is effective July 15, 2016.

(b) Affected ADs

None.

(c) Applicability

This AD applies to B/E Aerospace Protective Breathing Equipment (PBE), part number (P/N) 119003-11, that is installed on airplanes.

(d) Subject

Joint Aircraft System Component (JASC)/Air Transport Association (ATA) of America Code 35; Oxygen.

(e) Unsafe Condition

This AD was prompted by a report of a PBE, P/N 119003-11, catching fire upon activation by a crewmember. We are issuing this AD to correct the unsafe condition on these products.

(f) Compliance

Comply with this AD within the compliance times specified, unless already done.

(g) Inspection

Within 3 months after July 15, 2016 (the effective date of this AD), while still in the stowage box, physically inspect the PBE pouch to determine if it has an intact vacuum seal. Do this inspection following paragraph III.A.1. of the Accomplishment Instructions in B/E Aerospace Service Bulletin No. 119003-35-011, Rev. 000, dated February 4, 2015.

(h) Replacement

(1) If a PBE pouch is found that does not have an intact vacuum seal during the inspection required in paragraph (g) of this AD: Before further flight or following existing minimum equipment list (MEL) procedures, replace the PBE with a PBE, P/N 119003-21, following paragraphs III.C., III.D.(4), III.D.(6), and III.D.(7) of the Accomplishment Instructions in B/E Aerospace Service Bulletin No. 119003-35-009, Rev. 001, dated April 12, 2016, or replace it with another FAA-approved serviceable PBE.

(2) If a PBE pouch is found during the inspection required in paragraph (g) of this AD where the vacuum seal is intact: Within 18 months after July 15, 2016 (the effective date of this AD), remove PBE, P/N 119003-11, and replace the PBE with PBE, P/N 119003-21, following paragraphs III.C., III.D.(4), III.D.(6), and III.D.(7) of the Accomplishment Instructions in B/E Aerospace Service Bulletin No. 119003-35-009, Rev. 001, dated April 12, 2016, or replace it with another FAA-approved serviceable PBE.

(i) Credit for Actions Done Following Previous Service Information

If you performed the replacement action required in paragraphs (h)(1) and (2) of this AD before July 15, 2016 (the effective date of this AD) using B/E Aerospace Service Bulletin No. 119003-35-009, Rev. 000, dated November 9, 2015, you met the requirements of those paragraphs of this AD.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(k) Related Information

For more information about this AD, contact David Enns, Aerospace Engineer, Wichita ACO, FAA, 1801 S. Airport Road, Room 100, Wichita, Kansas 67209; phone: (316) 946-4147; fax: (316) 946-4107; email: david.enns@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) B/E Aerospace Service Bulletin No. 119003-35-009, Rev. 001, dated April 12, 2016.

(ii) B/E Aerospace Service Bulletin No. 119003-35-011, Rev. 000, dated February 4, 2015.

(3) For B/E Aerospace, Inc. service information identified in this AD, contact B/E Aerospace, Inc., 10800 Pflumm Road, Commercial Aircraft Products Group, Lenexa, Kansas 66215; phone: (913) 338-9800; fax: (913) 338-8419; Internet: www.beaerospace.com.

(4) You may view this service information at FAA, Small Airplane Directorate, 901 Locust, Kansas City, Missouri 64106. For information on the availability of this material at the FAA, call (816) 329-4148. It is also available on the Internet at http://www.regulations.gov by searching for and locating Docket No. FAA-2015-2134.

(5) You may view this service information that is incorporated by reference at the National Archives and Records Administration (NARA). For information on the availability of this material at NARA, call 202-741-6030, or go to: http://www.archives.gov/federal-register/cfr/ibr-locations.html.

Issued in Kansas City, Missouri, on May 25, 2016.
Pat Mullen,
Acting Manager, Small Airplane Directorate, Aircraft Certification Service.

[FR Doc. 2016-13250 Filed 6-9-16; 8:45 am]

BILLING CODE 4910-13-P